DEPARTMENT OF TRANSPORTATION

Surface Transportation Board

[STB Finance Docket No. 34122]

Dallas, Garland & Northeastern Railroad, Inc.—Acquisition of Trackage Rights Exemption—Dallas Area Rapid Transit

AGENCY: Surface Transportation Board, DOT.

ACTION: Notice of exemption.

SUMMARY: Under 49 U.S.C. 10502, the Board is granting a petition for exemption from the prior approval requirements of 49 U.S.C. 11323-25 for Dallas, Garland & Northeastern Railroad, Inc., to acquire trackage rights over certain lines of railroad in the vicinity of Dallas, TX, that are owned by Dallas Area Rapid Transit.

DATES: This exemption is effective on April 4, 2002. Petitions to stay must be filed by March 20, 2002. Petitions to reopen must be filed by April 1, 2002.

ADDRESSES: An original and 10 copies of all pleadings referring to STB Finance Docket No. 34122 must be filed with the Surface Transportation Board, Office of the Secretary, Case Control Unit, 1925 K Street, NW., Washington, DC 20423-0001. In addition, one copy of all pleadings must be served on petitioner's representative, Gary Laakso, Dallas, Garland & Northeastern Railroad, Inc., 5300 Broken Sound Blvd. NW., Boca Raton, FL 33487.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Da 2 Da Legal, Suite 405, 1925 K Street, NW., Washington, DC 20006. Telephone: (202) 293-7776. [Assistance for the hearing impaired is available through TDD services at 1-800-877-8339.]

Board decisions and notices are available on our website at www.stb.dot.gov.

Decided: February 26, 2002.
By the Board, Chairman Morgan and Vice Chairman Burkes.
Vernon A. Williams,
Secretary.

[FR Doc. 02-5216 Filed 3-4-02; 8:45 am]

BILLING CODE 4915-00-P